DEPARTMENT OF ENERGY

Federal Energy Regulatory Commission

[Docket No. CP02-73-000]

Cargill, Incorporated, Complainant, v. Saltville Gas Storage Company, LLC, Respondent; Notice of Complaint

January 24, 2002.

Take notice that on January 23, 2002, pursuant to sections 5, 7, and 16 of the Natural Gas Act (NGA) and Rule 206 of the Commission's Rules of Practice and Procedure, 18 CFR 385.206, Cargill, Incorporated, (Cargill) filed a Complaint against Saltville Gas Storage Company, LLC (“Saltville LLC”) requesting that the Commission issue an order requiring Saltville LLC to cease and desist from the construction of jurisdictional salt cavern storage facilities without a certificate. The Complaint alleges that Saltville LLC is attempting to circumvent the jurisdiction of this Commission by constructing and operating an interstate natural gas storage facility, in Saltville, Virginia under claim of State jurisdiction despite the fact that the overriding purpose of the facilities is to provide natural gas storage service in interstate commerce. Accordingly, Cargill respectfully requests that the Commission assert jurisdiction over Saltville LLC, order it to cease and desist from all construction activities, and require it to file an application for a certificate of public convenience and necessity with this Commission. Alternatively, Cargill requests that the Commission issue a cease and desist order accompanied by an order requiring Saltville LLC to show cause why the proposed storage facilities are not subject to the Commission's NGA jurisdiction.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 12, 2001. Protests will be considered by the Commission in determining the appropriate action to be taken, but will not serve to make protestants parties to the proceeding. Any person wishing to become a party must file a motion to intervene. Answers to the complaint shall also be due on or before February 12, 2001. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-2245 Filed 1-29-02; 8:45 am]

BILLING CODE 6717-01-P